DEPARTMENT OF THE INTERIOR

Bureau of Land Management

[BLM_CA_FRN_MO4500161911]

Notice of Public Meetings: Northern California District Resource Advisory Council

AGENCY: Bureau of Land Management, Interior.

ACTION: Notice of public meetings.

SUMMARY: In accordance with the Federal Land Policy and Management Act of 1976 and the Federal Advisory Committee Act of 1972, the U.S. Department of the Interior, Bureau of Land Management (BLM) Northern California District Resource Advisory Council (RAC) will meet in 2023 as follows.

DATES: The 2023 schedule of meetings for the Northern California District RAC is as follows: April 26-27; May 24-25; and August 23-24. The Council will participate in field tours of BLM-managed public lands on Wednesday, April 26, May 24, and August 23 from 10 a.m. to 4 p.m. each day, and will meet in formal session on Thursday, April 27, May 25, and August 24. All meetings start at 8 a.m. and conclude at 2:30 p.m. Each meeting will be held in-person with a virtual participation option available on the Zoom platform. All Council meetings and field tours are open to the public.

ADDRESSES: The April meeting will be held, and the field tour will commence and conclude, at the Bureau of Land Management Northern California District Office, 6640 Lockheed Drive, Redding, CA 96002. The May meeting will be held, and the field tour will commence and conclude, at the BLM Arcata Field Office, 1695 Heindon Road, Arcata, CA 95521. The August meeting will be held, and the field tour will commence and conclude, at the BLM Eagle Lake Field Office, 2550 Riverside Drive, Susanville, CA 96130. If the COVID-19 protocols are reinstated and in-person meetings are prohibited, the field tours will be cancelled, and the meetings will be held virtually. Meeting links, participation instructions, and field tour details will be provided to the public via news media, social media, and posted on the RAC's web page at blm.gov/get-involved/rac/California/northern-california-rac, and through personal contact 2 weeks prior to the meeting. Written comments pertaining to the meeting can be sent to the BLM Northern California District Office, at the address listed earlier, marked Attention: RAC meeting comments.

FOR FURTHER INFORMATION CONTACT: Public Affairs Officer Joseph J. Fontana, telephone: (530) 260-0189, email: jfontana@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The 15-member council advises the Secretary of the Interior, through the BLM, on a variety of planning and management issues associated with public land management on BLM-managed public lands in northern California and northwest Nevada. For the April meeting, agenda topics include review and comment on development of the BLM Northern California Integrated Resource Management Plan (NCIP), review and comment on a recreation business plan for the Redding Field Office, updates on proposed changes to the BLM's grazing regulations, status of a management plan revision for the Cascade Siskiyou National Monument (CSNM), and a status report on pending land acquisitions. For the May meeting, agenda topics include review and comment on: (1) development of the NCIP, (2) a recreation business plan for the King Range National Conservation Area, and (3) development of a management plan revision for the CSNM; discussion of the RAC's potential development of guidelines for recreation use; and updates on pending land acquisitions. For the August meeting, agenda topics include review and comment on the management plan for the NCIP and on the management plan revision for the CSNM; an update on wild horse and burro management; and a status report on the BLM's grazing regulations.

All meetings are open to the public. Each formal council meeting will have time allocated for public comments at 11 a.m. Depending on the number of people wishing to speak and the time available, the amount of time for oral comments may be limited. Written public comments may be sent to the BLM Northern California District Office at the address listed in the ADDRESSES section of this notice. All comments received will be provided to the RAC.

Public Disclosure of Comments: Before including your address, phone number, email address, or other personal identifying information in your comment, you should be aware that your entire comment—including your personal identifying information—may be made publicly available at any time. While you can ask us in your comment to withhold your personal identifying information from public review, we cannot guarantee that we will be able to do so.

Members of the public are welcome on field tours but must provide their own transportation and meals.

Detailed meeting minutes for the RAC meetings will be maintained in the Northern California District Office. Minutes will also be posted to the California RAC web page.

Meeting Accessibility/Special Accommodations: Please make requests in advance for sign language interpreter services, assistive listening devices, or other reasonable accommodations. We ask that you contact the person listed in the (see FOR FURTHER INFORMATION CONTACT) section of this notice at least 7 business days prior to the meeting to give the Department of the Interior sufficient time to process your request. All reasonable accommodation requests are managed on a case-by-case basis.

(Authority: 43 CFR 1784.4-2)

Dereck Wilson,
Northern California District Manager.

[FR Doc. 2023-06972 Filed 4-3-23; 8:45 am]

BILLING CODE 4331-15-P